DEPARTMENT OF LABOR

Employment and Training Administration

[TA-W-52,690]

Zawick Manufacturing Co., Hellertown, PA; Notice of Termination of Investigation

Pursuant to section 221 of the Trade Act of 1974, an investigation was initiated on August 27, 2003 in response to a worker petition which was filed by UNITE! on behalf of workers at Zawick Manufacturing Company, Hellertown, Pennsylvania.

The petitioner has requested that the petition be withdrawn. Consequently, the investigation has been terminated.

Signed in Washington, DC, this 12th day of September, 2003.
Richard Church,
Certifying Officer, Division of Trade Adjustment Assistance.

[FR Doc. 03-26482 Filed 10-20-03; 8:45 am]

BILLING CODE 4510-30-P